DEPARTMENT OF ENERGY

Federal Energy Regulatory Commission

Combined Notice of Filings #1

February 24, 2009.

Take notice that the Commission received the following electric corporate filings:

Docket Numbers: EC09-56-000.

Applicants: Wolverine Creek Goshen Interconnection LLC.

Description: Joint Application of Wolverine Creek Goshen Interconnection, LLC, et al. for Authorization of Disposition of Facilities under Section 203 of the FPA and Request for Confidential Treatment, Expedited Consideration and Waivers.

Filed Date: 02/23/2009.

Accession Number: 20090223-5130.

Comment Date: 5 p.m. Eastern Time on Monday, March 16, 2009.

Take notice that the Commission received the following electric rate filings:

Docket Numbers: ER01-316-031.

Applicants: ISO New England Inc.

Description: ISO New England Inc submits its Index of Customers for the fourth quarter of 2008 under their FERC Tariff for Transmission Dispatch and Power Administration Services.

Filed Date: 02/02/2009.

Accession Number: 20090203-0171.

Comment Date: 5 p.m. Eastern Time on Monday, March 2, 2009.

Docket Numbers: ER09-666-000; ER09-667-000; ER09-668-000; ER09-669-000; ER09-670-000; ER09-671-000.

Applicants: EDFD-Handsome Lake; EDFD-Perryman; EDFD-Keystone; EDFD-Conemaugh; EDFD-C.P. Crane; EDFD-West Valley.

Description: EDF Development, Inc submits application on behalf of each of several EDFD subsidiaries, for acceptance of market-based tariffs and granting of waivers and blanket authorizations; request that shortened comment period, etc.

Filed Date: 02/20/2009.

Accession Number: 20090223-0025.

Comment Date: 5 p.m. Eastern Time on Friday, March 13, 2009.

Docket Numbers: ER09-726-000.

Applicants: Vision Power, LLC.

Description: Vision Power, LLC requests acceptance of FERC Electric Tariff, Original Volume 1 under which it will engage in whole sales of electric energy transactions at market-based rates, etc.

Filed Date: 02/20/2009.

Accession Number: 20090223-0024.

Comment Date: 5 p.m. Eastern Time on Friday, March 13, 2009.

Take notice that the Commission received the following electric securities filings:

Docket Numbers: ES09-21-000.

Applicants: Northern Maine Independent System Administrator, Inc.

Description: Application of Northern Maine Independent System Administrator, Inc. for Authorization to Issue Securities Pursuant to Section 204 of the Federal Power Act in ES09-21.

Filed Date: 02/23/2009.

Accession Number: 20090223-5068.

Comment Date: 5 p.m. Eastern Time on Monday, March 16, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-4579 Filed 3-3-09; 8:45 am]

BILLING CODE 6717-01-P